DEPARTMENT OF COMMERCE

Office of the Secretary

Submission for OMB Review; Comment Request; The Environmental Questionnaire and Checklist (EQC)

The Department of Commerce will submit a request for renewal of an existing collection of information to the Office of Management and Budget (OMB) for clearance under the provisions of the Paperwork Reduction Act (44 U.S.C. Chapter 35).

Agency: Office of the Secretary, Office of Facilities and Environmental Quality.

Title: DOC National Environmental Questionnaire and Checklist (EQC).

OMB Control Number: 0690-0028.

Form Number(s): CD-593.

Type of Request: Regular (extension of a currently approved information collection).

Number of Respondents: 1,000.

Average Hours per Response: 3 hours.

Burden Hours: 3,000.

Estimated Total Annual Cost to Public: $1,000 in miscellaneous costs ($5 × approximately 200 respondents who would mail attachments rather than emailing them).

Needs and Uses: This request is for an extension of a currently approved information collection. The National Environmental Policy Act (NEPA) (42 U.S.C. 4321-4347) and the Council on Environmental Quality's (CEQ) Regulations for Implementing NEPA (40 CFR parts 1500-1508) require that federal agencies complete an environmental analysis for all major federal actions significantly affecting the environment. Those actions may include a federal agency's decision to fund non-federal projects under grants and cooperative agreements, including infrastructure projects. In order to determine NEPA compliance requirements for a project receiving Department of Commerce (DOC) bureau-level funding, DOC must assess information which can only be provided by the applicant for federal financial assistance (grant).

The National Environmental Questionnaire and Checklist (EQC) provides federal financial assistance applicants and DOC staff with a tool to ensure that the necessary project and environmental information is obtained. The EQC was developed to collect data concerning potential environmental impacts that the applicant for federal financial assistance possesses and to transmit that information to the Federal reviewer. The EQC will allow for a more rapid review of projects and facilitate DOC's evaluation of the potential environmental impacts of a project and level of NEPA documentation required. DOC staff will use the information provided in answers to the questionnaire to determine compliance requirements for NEPA and conduct subsequent NEPA analysis as needed. Information provided in the questionnaire may also be used for other regulatory review requirements associated with the proposed project, such as the National Historic Preservation Act.

The DOC received no comments in response to the 60-day notice published in the Federal Register on April 14, 2017 (82 FR 17968).

Affected Public: Business or other for-profit organizations; not-for-profit institutions; individuals and households.

Frequency: On occasion.

Respondent's Obligation: Required to obtain or retain a benefit.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-12496 Filed 6-15-17; 8:45 am]

BILLING CODE 3510-NW-P